DEPARTMENT OF COMMERCE

National Oceanic and Atmospheric Administration

[I.D. 031403E]

Fisheries of the Caribbean, Gulf of Mexico, and South Atlantic; Reef Fish Fishery of the Gulf of Mexico; Amendment 21; Public Hearings

AGENCY: National Marine Fisheries Service (NMFS), National Oceanic and Atmospheric Administration (NOAA), Commerce.

ACTION: Notice of public hearings; request for comments.

SUMMARY: The Gulf of Mexico Fishery Management Council (Council) will convene a public hearing to receive comments on the Council's proposed Amendment 21 to the Reef Fish Fishery Management Plan (Amendment 21) to extend the time period for the Madison/Swanson and Steamboat Lumps marine reserves beyond their June 16, 2004, expiration date.

DATES: The public hearing will be held in April. See SUPPLEMENTARY INFORMATION for specific dates and times.

ADDRESSES: Written comments should be sent to, and copies of the scoping document are available from, the Gulf Council, 3018 U.S. Highway 301, North, Suite 1000, Tampa, Florida 33619.

FOR FURTHER INFORMATION CONTACT: Mr. Steven Atran, Population Dynamics Statistician, Gulf of Mexico Fishery Management Council; telephone 813-228-2815.

SUPPLEMENTARY INFORMATION: The public hearing will be convened on the Council's proposed Amendment 21 to extend the time period for the Madison/Swanson and Steamboat Lumps marine reserves beyond their June 16, 2004, expiration date.

The Madison/Swanson and Steamboat Lumps marine reserves were implemented on June 19, 2000, with a 4-year sunset provision. The Madison/Swanson site is approximately 115 square nautical miles in size and is located about 40 nautical miles southwest of Apalachicola City, FL. Steamboat Lumps is approximately 104 square nautical miles in size and is located about 95 nautical miles west of Tarpon Springs, FL. Within each area, fishing is prohibited for all species except for highly migratory species, i.e., tunas, marlin, oceanic sharks, sailfishes, and swordfish. These marine reserves were created primarily to protect a portion of the gag spawning aggregations and to protect a portion of the offshore population of male gag. The areas are also suitable habitat and provide protection for many other species, such as scamp, red grouper, warsaw grouper, speckled hind, red snapper, red porgy, and others.

It was the Council's intent to prohibit the use of any fishing gear within the closed areas in order to maximize enforceability of the closed area as well as minimize the negative impact from incidental catch and release of reef fish while targeting other species. For this reason, the Council asked that the NMFS Highly Migratory Species (HMS) Division implement compatible closed area regulations for the species under their management jurisdiction (tunas, swordfish, oceanic sharks, and billfishes). This led to a legal challenge from a recreational fishing organization. The recreational organization felt that restrictions on fishing for migratory species higher up in the water column were unwarranted because they would have no impact on the bottom reef fish species. As part of a settlement to the legal challenge, NMFS agreed to hold the Council's request to implement an HMS closure in abeyance while research is conducted into the impact of the no-take areas, the effect of pelagic trolling on and ability to reach reef fish species, and the impact on enforceability by allowing pelagic trolling in the no-take areas. Reports on the results of the research into these areas are scheduled to be presented at the May 12-15, 2003, Council meeting where final action is to be taken. No action will result in the two reserves expiring on June 16, 2004, and the areas re-opening to all fishing.

The public hearing will be held from 7 p.m. to 10 p.m.Wednesday, April 9, 2003, Tampa Airport Hilton, 2225 Lois Avenue, Tampa, FL; telephone: 813-877-6688.

In addition, public testimony will be taken at the May 12-15, 2003, Council meeting at the Edgewater Beach Resort, 11212 Front Beach Road, Panama City Beach, FL. (The exact date and time for public testimony at the May Council meeting will be announced at a later time.)

Copies of the draft amendment for these meetings can be obtained by calling 813-228-2815.

These meetings are physically accessible to people with disabilities. Requests for sign language interpretation or other auxiliary aids should be directed to Anne Alford at the Council (see ADDRESSES) by April 2, 2003.

Dated: March 19, 2003.
Richard W. Surdi,
Acting Director, Office of Sustainable Fisheries, National Marine Fisheries Service.

[FR Doc. 03-6958 Filed 3-21-03; 8:45 am]

BILLING CODE 3510-22-S